DEPARTMENT OF TRANSPORTATION

National Highway Traffic Safety Administration

[Docket No. NHTSA-2015-0066; Notice 2]

Mitsubishi Motors North America, Inc., Grant of Petition for Decision of Inconsequential Noncompliance

AGENCY: National Highway Traffic Safety Administration (NHTSA), Department of Transportation (DOT).

ACTION: Grant of petition.

SUMMARY: Mitsubishi Motors North America, Inc. (MMNA), has determined that certain model year (MY) 2015 Mitsubishi Outlander Sport multipurpose passenger vehicles (MPV) do not fully comply with paragraph S6 of Federal Motor Vehicle Safety Standard (FMVSS) No. 205, Glazing Materials. MMNA has filed an appropriate report dated June 4, 2015, pursuant to 49 CFR part 573, Defect and Noncompliance Responsibility and Reports.

ADDRESSES: For further information on this decision contact Luis Figueroa, Office of Vehicle Safety Compliance, the National Highway Traffic Safety Administration (NHTSA), telephone (202) 366-5298, facsimile (202) 366-3081.

SUPPLEMENTARY INFORMATION:

I. Overview: Pursuant to 49 U.S.C. 30118(d) and 30120(h) (see implementing rule at 49 CFR part 556), MMNA submitted a petition for an exemption from the notification and remedy requirements of 49 U.S.C. Chapter 301 on the basis that this noncompliance is inconsequential to motor vehicle safety.

Notice of receipt of the petition was published, with a 30-day public comment period, on September 8, 2015 in the Federal Register (80 FR 53911). No comments were received. To view the petition, and all supporting documents log onto the Federal Docket Management System (FDMS) Web site at: http://www.regulations.gov/. Then follow the online search instructions to locate docket number “NHTSA-2015-0066.”

II. Vehicles Involved: Affected are approximately 300 MY 2015 Mitsubishi Outlander Sport multipurpose passenger vehicles manufactured between December 8, 2014 and December 22, 2014.

III. Noncompliance: MMNA explains that the quarter panel window glazing installed in the subject vehicles was labeled with the manufacturer's model number “M-66,” indicating a tempered glass construction and “AS2,” incorrectly indicating the glass has light transmission properties of at least 70%. The correct manufacturer's model number, which should have been affixed to the quarter panel glass window, is “M-131” (which corresponds to a tempered “privacy” glass construction and a light transmission of 25%) and the correct item of glazing number should have been “AS-3” (which corresponds to glazing with less than 70% light transmittance).

IV. Rule Text: Paragraph S6 of FMVSS No. 205 requires in pertinent part:

S6. Certification and marking.

. . .

S6.2 A prime glazing manufacturer certifies its glazing by adding to the marks required by section 7 of ANSI/SAE Z26.1-1996, . . .

[Note that ANSI Z26.1-1996 and other industry standards are incorporated by reference in paragraph S5.1 of FMVSS No. 205. Specifically, Section 7 (Marking of Safety Glazing Materials) of ANSI Z26.1-1996 requires that:

“In addition, to any other markings required by law, ordinance, or regulation, all safety glazing materials manufactured for use in accordance with this standard shall be legibly and permanently marked . . . with the words American National Standard or the characters AS, in addition with a model number ³⁸ that will identify the type of construction of the glazing material. They shall also be marked with . . .

³⁸ The model number shall be assigned by the manufacturer of the safety glazing material and shall be related by the manufacturer to a detailed description of a specific glazing material.”]

V. Summary of MMNA's Arguments: MMNA stated its belief that the subject noncompliance is inconsequential to motor vehicle safety for the following reasons:

(A) MMNA stated that the quarter panel glass windows otherwise meet all other marking and performance requirements of FMVSS No. 205.

(B) MMNA believes that because the affected glazing fully meets all of the applicable performance requirements, the absence of the correct “M” number in their monogram has no effect upon the degree of driver visibility or the possibility of occupants being thrown through the vehicle windows in a collision.

(C) MMNA stated its belief that NHTSA has previously granted inconsequential noncompliance petitions regarding what it believes are similar noncompliances.

(D) MMNA is not aware of any crashes, injuries, customer complaints or field reports associated with this condition.

In summation, MMNA believes that the described FMVSS No. 205 noncompliance of the subject vehicles is inconsequential to motor vehicle safety, and that its petition, to exempt MMNA from providing recall notification of noncompliance as required by 49 U.S.C. 30118 and remedying the recall noncompliance as required by 49 U.S.C. 30120 should be granted.

NHTSA's Decision

NHTSA's Analysis: MMNA indicated that as many as 142 ¹ incorrectly labeled quarter panel windows were mounted on the subject 300 vehicles during production of those vehicles. MMNA also stated that the installed windows meet or exceed all other labeling and performance requirements of FMVSS No. 205, and the remaining noncompliant windows produced by its supplier Pilkington North America, Inc., have been destroyed or exported.

¹ Pilkinson North America (PNA) determined that they had manufactured 8927 quarter panel glass windows with the incorrect model number and item of glazing number (AS). Of these 8927 windows, PNA scrapped all but 1139 windows that had been shipped to MMNA. MMNA retrieved and returned to PNA 997 noncomplying windows, but 142 were installed in a suspect population of 349 vehicles that were shipped to the USA (300 vehicles) and to Mexico and Canada (49 vehicles).

NHTSA therefore believes there is no effect of the noncompliance on the operational safety of the subject vehicles and that none of the subject noncompliant windows will be installed on any additional new production vehicles or delivered as replacement parts for existing vehicles.

NHTSA's Decision: In consideration of the foregoing, NHTSA has decided that MMNA has met its burden of persuasion that the FMVSS No. 205 noncompliance is inconsequential to motor vehicle safety. Accordingly, MMNA's petition is hereby granted and MMNA is exempted from the obligation of providing notification of, and a remedy for, that noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the subject vehicles that MMNA no longer controlled at the time it determined that the noncompliance existed. However, the granting of this petition does not relieve vehicle distributors and dealers of the prohibitions on the sale, offer for sale, or introduction or delivery for introduction into interstate commerce of the noncompliant vehicles under their control after MMNA notified them that the subject noncompliance existed.

Authority: (49 U.S.C. 30118, 30120: Delegations of authority at 49 CFR 1.95 and 501.8).

Jeffrey M. Giuseppe,
Director, Office of Vehicle Safety Compliance.

[FR Doc. 2015-29472 Filed 11-18-15; 8:45 am]

BILLING CODE 4910-59-P